FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 14, 2013.

A. Federal Reserve Bank of Chicago (Colette A. Fried, Assistant Vice President) 230 South LaSalle Street, Chicago, Illinois 60690-1414:

1. John Crouch, Fox Point, Wisconsin; to join the existing Lubar Family Control Group and retain voting shares of Ixonia Bancshares, Inc., and thereby indirectly retain voting shares of Ixonia Bank, both in Ixonia, Wisconsin.

B. Federal Reserve Bank of Kansas City (Dennis Denney, Assistant Vice President) 1 Memorial Drive, Kansas City, Missouri 64198-0001:

1. Gene R. Giles, Alliance, Nebraska, Sally J. Giles, Denver, Colorado, Randall D. Giles, San Diego, California, Nicholas G. Giles, and Lucas G. Giles, both of Lincoln, Nebraska; all of the Giles family group; the Bradley S. Norden Irrevocable Trust, and the Brett A. Norden Irrevocable Trust, Brett A. Norden and Bradley S. Norden, as co-trustees of both trusts, all of Highlands Ranch, Colorado, and as members of the Norden family group; the Michael L. Ryan 2011 Irrevocable Trust and the Cheryl L. Ryan 2012 Irrevocable Trust, both of Minden, Nebraska, Jeffrey M. Ryan, Heartwell, Nebraska, and Jamie Johnson, Minden, Nebraska, as co-trustees of both trusts; and Walter D. Wood Revocable Trust, Walter D. Wood, trustee, both of Omaha, Nebraska, as part of the Ryan/Wood family group; to acquire voting shares of First Central Nebraska Co., and thereby indirectly acquire voting shares of Nebraska State Bank and Trust Company, both in Broken Bow, Nebraska.

Board of Governors of the Federal Reserve System, April 24, 2013.
Michael J. Lewandowski,
Assistant Secretary of the Board.

[FR Doc. 2013-10030 Filed 4-26-13; 8:45 am]

BILLING CODE 6210-01-P